NATIONAL SCIENCE FOUNDATION

Advisory Committee for Biological Sciences; Notice of Meeting

In accordance with Federal Advisory Committee Act (Pub. L. 92-463, as amended), the National Science Foundation announces the following meeting:

Name: Advisory Committee for Biological Sciences (1110).

Date/Time: March 17, 2010; 8:30 a.m. to 5 p.m., March 18, 2010; 8:30 a.m. to 1 p.m.

Place: National Science Foundation, 4201 Wilson Boulevard, Room 555 Stafford II, Arlington, VA.

Type of Meeting: Open.

Contact Person: Chuck Liarakos, National Science Foundation, 4201 Wilson Boulevard, Arlington, VA 22230 (703) 292-8400.

If you are attending the meeting and need access to the NSF, please contact the individual listed above so your name may be added to the building access list.

Purpose of Meeting: To provide advice concerning issues related to the oversight, integrity, development and enhancement of NSF's business operations.

Reason for Late Notice: Due to a recent water pipe burst resulting in flood damage to NSF offices and files. This caused staff to experience workload interruption and delay.

Agenda:

March 17, 2010

a.m.: Introductions and Updates, Presentation and Discussion—2011 Budget Report; Undergraduate Education; Collections; and Dimensions of Biodiversity.

p.m.: Presentation and Discussion—The Future of Biology; Advances in Sequencing Technology; COV Report; Committee Discussion.

March 18, 2010

a.m.: Presentation and Discussion—Resources and Facilities Report; COV Report; Innovation Experiments.

p.m.: Discussion—Planning for next meeting; feedback; other business.

Susanne Bolton,
Committee Management Officer.

[FR Doc. 2010-4860 Filed 3-5-10; 8:45 am]

BILLING CODE 7555-01-P